NATIONAL CREDIT UNION ADMINISTRATION

Agency Information Collection for Comments Request: Proposed Collection

AGENCY: National Credit Union Administration (NCUA).

ACTION: Notice and request for comments.

SUMMARY: The National Credit Union Administration (NCUA) will submit the following information collection request to the Office of Management and Budget (OMB) for review and clearance in accordance with the Paperwork Reduction Act of 1995, on or after the date of publication of this notice.

DATES: Written comments should be received on or before August 11, 2025 to be assured consideration.

ADDRESSES: Interested persons are invited to submit written comments on the information collection to Dacia Rogers, National Credit Union Administration, 1775 Duke Street, Alexandria, Virginia 22314, Suite 6070; email at PRAComments@NCUA.gov.

FOR FURTHER INFORMATION CONTACT: Copies of the submission may be obtained by contacting Dacia Rogers at (703) 518-6547.

SUPPLEMENTARY INFORMATION:

OMB Number: 3133-New.

Title: Travel Management.

Type of Review: New Collection.

Abstract: NCUA uses a Travel Management Center (TMC) to help streamline the planning, coordination, and execution of travel-related activities for NCUA employees, State Examiners, and invitational guests. Key components include itinerary planning, booking accommodations and transportation, expense tracking, and forms for NCUA employees, State Examiners, and invitational guests to use to procure travel arrangements for official travel.

Affected Public: State or Local Governments: Private Sector: Not-for-profit institutions.

Estimated Total Annual Burden Hours: 132.5.

Request for Comments: Comments submitted in response to this notice will be summarized and included in the request for the Office of Management and Budget approval. All comments will become a matter of public record. The public is invited to submit comments concerning: (a) whether the collection of information is necessary for the proper performance of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By the National Credit Union Administration Board.
Melane Conyers-Ausbrooks,
Secretary of the Board.

[FR Doc. 2025-10667 Filed 6-11-25; 8:45 am]

BILLING CODE 7535-01-P